DEPARTMENT OF COMMERCE

National Oceanic and Atmospheric Administration

RIN 0648-XV102

South Atlantic Fishery Management Council; Public Hearings

AGENCY: National Marine Fisheries Service (NMFS), National Oceanic and Atmospheric Administration (NOAA), Commerce.

ACTION: Notice of public hearings.

SUMMARY: The South Atlantic Fishery Management Council (Council) will hold a series of public hearings via webinar pertaining to Framework Amendment 8 to the Fishery Management Plan for Coastal Migratory Pelagic Resources in the Gulf of Mexico and Atlantic Region. The amendment addresses commercial trip limits in the Atlantic southern zone for commercial king mackerel.

DATES: The public hearings will be held via webinar on October 29 and 30, 2019.

ADDRESSES:

Council address: South Atlantic Fishery Management Council, 4055 Faber Place Drive, Suite 201, N Charleston, SC 29405.

FOR FURTHER INFORMATION CONTACT: Kim Iverson, Public Information Officer, SAFMC; phone: (843) 571-4366 or toll free (866) SAFMC-10; fax: (843) 769-4520; email: kim.iverson@safmc.net.

SUPPLEMENTARY INFORMATION: The public hearings will be conducted via webinar and accessible via the internet from the Council's website at https://safmc.net/safmc-meetings/public-hearings-scoping-meetings/. The public hearings will begin at 5 p.m. Registration for the webinars is required. Registration information, a copy of the Public Hearing Document, an online public comment form and any additional information as needed will be posted on the Council's website at https://safmc.net/safmc-meetings/public-hearings-scoping-meetings/ as it becomes available. Public comments must be received by 5 p.m. on October 31, 2019.

Framework Amendment 8 to the Coastal Migratory Pelagics FMP

The draft amendment currently addresses commercial king mackerel trip limits in the Atlantic southern zone (North Carolina/South Carolina line to the Miami-Dade/Monroe County, Florida boundary) during season two (October 1st to the end of February). At their June 2019 meeting, the Council requested the National Marine Fisheries Service take emergency action to increase in the commercial trip limit from 50-fish to 75-fish in the Atlantic southern zone, south of the Flagler/Volusia County line, Florida during season two of the 2019/20 commercial fishing year. Framework Amendment 8 will permanently address season two commercial king mackerel trip limits.

During the public hearings, Council staff will present an overview of the amendment and will be available for informal discussions and to answer questions via webinar. Members of the public will have an opportunity to go on record to record their comments for consideration by the Council.

Special Accommodations

These meetings are physically accessible to people with disabilities. Requests for auxiliary aids should be directed to the Council office (see ADDRESSES) 3 days prior to the meeting.

Note: The times and sequence specified in this agenda are subject to change.

Authority: 16 U.S.C. 1801 et seq.

Dated: October 8, 2019.
Tracey L. Thompson,
Acting Deputy Director, Office of Sustainable Fisheries, National Marine Fisheries Service.

[FR Doc. 2019-22289 Filed 10-10-19; 8:45 am]

BILLING CODE 3510-22-P